DEPARTMENT OF HOUSING AND URBAN DEVELOPMENT

[Docket No. FR-5004-N-02]

Emergency Capital Repair Grants for Multifamily Housing Projects Designated for Occupancy by the Elderly; Revised Eligibility Requirements

AGENCY: Office of the Assistant Secretary for Housing—Federal Housing Commissioner, HUD.

ACTION: Notice.

SUMMARY: On May 22, 2006, HUD published a notice entitled, “Emergency Capital Repair Grants for Multifamily Housing Projects Designated for Occupancy by the Elderly,” which announced the availability of approximately $30 million in grant funds to make emergency capital repairs to eligible multifamily projects designated for occupancy by elderly tenants. The notice published in today's Federal Register revises the May 22, 2006 notice to expand the eligibility requirements to include those eligible projects located in presidentially declared disaster areas regardless of when final closing occurred. Those projects not located in presidentially declared disaster areas must have had final closing on or before January 1, 1999.

DATES: HUD will accept applications on a first-come, first-serve basis upon publication of this notice and will award emergency capital repair grants until available amounts are expended. Applicants should submit emergency capital repair applications as soon as they have prepared an application that complies with the procedures and requirements contained in this notice.

FOR FURTHER INFORMATION CONTACT: G. DeWayne Kimbrough, Director, Grant and Housing Assistance Field Support Division, Office of Multifamily Housing, Department of Housing and Urban Development, 451 Seventh Street, SW., Room 6146, Washington, DC 20410; telephone (202) 708-3000 (this is not a toll-free number). Persons with hearing or speech impairments may access this number via TTY by calling the toll-free Federal Information Relay Service at (800) 877-8339.

SUPPLEMENTARY INFORMATION: On May 22, 2006 (71 FR 29538), HUD published a notice that announced the availability of approximately $30 million in grant funds to make emergency capital repairs to eligible multifamily projects owned by private nonprofit entities that are designated for occupancy by elderly tenants. The capital repair needs must relate to items that present an immediate threat to the health, safety, and quality of life of the tenants. The intent of these grants is to provide one-time assistance for emergency items that could not be absorbed within the project's operating budget and other project resources, and where the tenants' continued occupancy in the immediate near future would be jeopardized by a delay in initiating the proposed cure. The notice provided instructions for owners of multifamily projects to request funding and instructions for the HUD field offices to process requests.

This notice revises the eligibility criteria set forth in the May 22, 2006 notice. Under that notice, in order to be eligible, projects must have had final closing on or before January 1, 1999. This notice expands the eligibility criteria to include those projects located in presidentially declared disaster areas, regardless of the date of final closing.

HUD believes that by expanding eligibility to projects located in presidentially declared disaster areas, HUD will be able to assist nonprofit owners repair their projects have that been damaged by flooding, earthquakes and other disasters, to ensure the health, safety and quality of life for their tenants.

Accordingly, in the notice, Emergency Capital Repair Grants for Multifamily Housing Projects Designated for Occupancy by the Elderly published in the Federal Register on May 22, 2006 (71 FR 29538), the following revision is made:

On page 29538, third column, Section III. Eligibility Requirements, the introductory paragraph is revised to read as follows:

Eligibility for emergency capital repair grants under this notice is restricted to: private nonprofit owners of eligible multifamily-assisted housing developments designated for occupancy by elderly tenants, as specified in sections 683(2)(B), (C), (D), (E), (F), or (G) of the Housing and Community Development Act of 1992 (Pub. L. 102-550, approved October 28, 1992). Those eligible projects not located in presidentially declared disaster areas, as identified below, must have had final closing on or before January 1, 1999. Those eligible projects that are located in presidentially declared disaster areas are eligible, without regard to date of final closing. The eligible projects are:

Dated: January 23, 2007.
Brian D. Montgomery,
Assistant Secretary for Housing—Federal Housing Commissioner.

[FR Doc. E7-1453 Filed 1-29-07; 8:45 am]

BILLING CODE 4210-67-P